DEPARTMENT OF TRANSPORTATION

Office of the Secretary of Transportation

49 CFR Part 8

[Docket No. DOT-OST-1999-6189]

RIN 9991-AA58

Classified Information: Classification/Declassification/Access; Authority To Classify Information

AGENCY: Office of the Secretary of Transportation (OST), Department of Transportation (DOT).

ACTION: Final rule.

SUMMARY: This final rule delegates various authorities vested in the Secretary of Transportation (Secretary) by Executive Order 13526 to originally classify information as SECRET or CONFIDENTIAL to the Administrator of the Federal Aviation Administration, and to the Assistant Administrator for Security and Hazardous Materials.

DATES: This final rule is effective April 8, 2011.

FOR FURTHER INFORMATION CONTACT: Brett Jortland, Attorney, Office of the General Counsel, U.S. Department of Transportation, 1200 New Jersey Avenue, SE., Washington, DC 20590, E-mail: brett.jortland@dot.gov, Telephone: (202) 366-9314.

SUPPLEMENTARY INFORMATION: Executive Order 13526 confers upon the Secretary the authority to originally classify information as SECRET or CONFIDENTIAL, with further authorization to designate this authority. Title 49 of the Code of Federal Regulations (CFR), Section 8.11(b)(3) delegates this authority to the Administrator of the Federal Aviation Administration (FAA), and the Assistant Administrator for Civil Aviation Security. As a result of administrative changes within the FAA, the position of the Assistant Administrator for Civil Aviation Security no longer exists. The authority exercised by that position has been transferred to the Assistant Administrator for Security and Hazardous Materials, thus necessitating a change in the language of § 8.11(b)(3) to reflect the proper office for designation of this authority.

In addition, following the creation of the Department of Homeland Security, and the transfer of the United States Coast Guard from DOT to the Department of Homeland Security, the delegation of authority from the Secretary to the United States Coast Guard is hereby removed and the section is renumbered accordingly.

Since these amendments relate to departmental management, organization, procedure, and practice, notice and comment are unnecessary under 5 U.S.C. 553(b). Further, since these amendments expedite DOT's ability to meet the statutory intent of the applicable laws and regulations covered by this delegation, the Secretary finds good cause under 5 U.S.C. 553(d)(3) for the final rule to be effective on the date of publication in the Federal Register.

Regulatory Impact and Notices

A. Executive Order 12866 and DOT Regulatory Policies and Procedures

The final rule is not considered a significant regulatory action under Executive Order 12866 and DOT Regulatory Policies and Procedures. See 44 FR 11034, Feb. 26, 1979. There are no costs associated with this rule.

B. Regulatory Flexibility Act and Executive Order 13272

Because no notice of proposed rulemaking is required for this rule under the Administrative Procedure Act, 5 U.S.C. 553, the provisions of the Regulatory Flexibility Act (5 U.S.C. 601 et seq.) do not apply. We also do not believe that this rule would impose any costs on small entities because it simply delegates authority from one official to another. Therefore, I certify that this final rule will not have a significant economic impact on a substantial number of small businesses.

C. Paperwork Reduction Act

This rule contains no information collection requirements under the Paperwork Reduction Act of 1995, 44 U.S.C. 3501 et seq.

D. Federalism Implications

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

E. Executive Order 13175

This final rule has been analyzed in accordance with the principles and criteria contained in Executive Order 13175 (“Consultation and Coordination with Indian Tribal Governments”). Because this final rule does not significantly or uniquely affect the communities of the Indian Tribal governments and does not impose substantial direct compliance costs, the funding and consultation requirements of Executive Order 13175 do not apply.

F. Unfunded Mandates Reform Act of 1995

DOT has determined that the requirements of title II of the Unfunded Mandates Reform Act of 1995 (Pub. L. 104-4, 2 U.S.C. 1531) do not apply to this rulemaking.

List of Subjects in 49 CFR Part 8

Classified Information (Government agencies), Classification/Declassification/Access (Government agencies).

The Final Rule

For the reasons set forth in the preamble, OST amends 49 CFR part 8 as follows:

PART 8—[AMENDED]

1. The authority citation for part 8 continues to read as follows:

Authority: E. O. 10450, 3 CFR, 1949-1953 Comp., p. 936; E.O. 12829, 3 CFR, 1993 Comp., p. 570; E.O. 12958, 3 CFR, 1995 Comp., p. 333; E. O. 12968, 3 CFR, 1995 Comp., p. 391.

Subpart B—Classification/Declassification of Information

§ 8.11 [Amended]

2. Section 8.11 is amended as follows:

a. By removing paragraph (b)(2),

b. By redesignating paragraphs (b)(3) and (b)(4) as (b)(2) and (b)(3)

c. By amending newly designated paragraph (b)(2) by removing the reference “Assistant Administrator for Civil Aviation Security”, and by adding in its place, the reference “Assistant Administrator for Security and Hazardous Materials.”

Issued in Washington, DC, on March 30, 2011.
Ray LaHood,
Secretary of Transportation.

[FR Doc. 2011-8292 Filed 4-7-11; 8:45 am]

BILLING CODE 4910-9X-P